ENVIRONMENTAL PROTECTION AGENCY

40 CFR Part 52

[ME-066-7015a; A-1-FRL-7171-7]

Approval and Promulgation of Air Quality Implementation Plans; Maine; New CTGs

AGENCY: Environmental Protection Agency (EPA).

ACTION: Direct final rule.

SUMMARY: EPA is approving a State Implementation Plan (SIP) revision submitted by the State of Maine. This revision establishes requirements for certain facilities which emit volatile organic compounds (VOCs). The intended effect of this action is to approve these requirements into the Maine SIP. This action is being taken in accordance with the Clean Air Act (CAA).

DATES: This direct final rule will be effective July 19, 2002, unless EPA receives adverse comments by June 19, 2002. If adverse comments are received, EPA will publish a timely withdrawal of the direct final rule in the Federal Register informing the public that the rule will not take effect.

ADDRESSES: Comments may be mailed to David Conroy, Unit Manager, Air Quality Planning, Office of Ecosystem Protection (mail code CAQ), U.S. Environmental Protection Agency, EPA New England Regional Office, One Congress Street, Suite 1100, Boston, MA 02114-2023. Copies of the documents relevant to this action are available for public inspection during normal business hours, by appointment at the Office Ecosystem Protection, U.S. Environmental Protection Agency, EPA New England Regional Office, One Congress Street, 11th floor, Boston, MA; Air and Radiation Docket and Information Center, U.S. Environmental Protection Agency, Room M-1500, 401 M Street, (Mail Code 6102), SW., Washington, D.C. and the Bureau of Air Quality Control, Department of Environmental Protection, 71 Hospital Street, Augusta, ME 04333.

FOR FURTHER INFORMATION CONTACT: Anne E. Arnold, (617) 918-1047.

SUPPLEMENTARY INFORMATION: This section is organized as follows:

What action is EPA taking?

What are the relevant Clean Air Act requirements?

What is a control techniques guideline (CTG)?

How has Maine addressed the new CTG categories?

What are the requirements in the licenses submitted by Maine?

Why is EPA approving Maine's submittal?

What is the process for EPA's approval of this SIP revision?

What Action Is EPA Taking?

EPA is approving air emission licenses for the following facilities and incorporating these licenses into the Maine SIP: Bath Iron Works in Bath; Pratt & Whitney in North Berwick; and Moosehead Manufacturing's Dover-Foxcroft and Monson plants.

What Are the Relevant Clean Air Act Requirements?

Sections 182(b)(2) and 184(b) of the Clean Air Act contain the requirements relevant to today's action. Section 182(b)(2) requires States to adopt reasonably available control technology (RACT) rules for all areas designated nonattainment for ozone and classified as moderate or above. There are three parts to the section 182(b)(2) RACT requirement: (1) RACT for sources covered by an existing Control Techniques Guideline (CTG)—i.e., a CTG issued prior to the enactment of the 1990 amendments to the CAA; (2) RACT for sources covered by a post-enactment CTG; and (3) all major sources not covered by a CTG, i.e., non-CTG sources.

Pursuant to the CAA Amendments of 1990, three areas in Maine were classified as moderate ozone nonattainment. (See 56 FR 56694; November 6, 1991). These areas were, thus, subject to the section 182(b)(2) RACT requirement.

In addition, the State of Maine is located in the Northeast Ozone Transport Region (OTR). The entire State is, therefore, subject to section 184(b) of the amended CAA. Section 184(b) requires that RACT be implemented in the entire state for all VOC sources covered by a CTG issued before or after the enactment of the CAA Amendments of 1990 and for all major VOC sources (defined as 50 tons per year for sources in the OTR).

What Is a Control Techniques Guideline (CTG)?

A CTG is a document issued by EPA which establishes a “presumptive norm” for RACT for a specific VOC source category. Under the pre-amended CAA, EPA issued CTG documents for 29 categories of VOC sources. Section 183 of the amended CAA requires that EPA issue 13 new CTGs. Appendix E of the General Preamble of Title I (57 FR 18077) lists the categories for which EPA plans to issue new CTGs.

On November 15, 1993, EPA issued a CTG for Synthetic Organic Chemical Manufacturing Industry (SOCMI) Distillation Operations and Reactor Processes. Also, on August 27, 1996, EPA issued a CTG for shipbuilding and repair operations and on May 26, 1996, EPA issued a CTG for wood furniture manufacturing operations. Furthermore, on March 27, 1998, EPA issued a CTG for aerospace coating operations.

How Has Maine Addressed the New CTG Categories?

On November 15, 1994, Maine submitted a negative declaration for the SOCMI Distillation and Reactors Processes CTG categories. In addition, in response to the shipbuilding CTG, Maine submitted a license for Portsmouth Naval Shipyard (PNSY). The SOCMI negative declaration and the license for PNSY were approved by EPA on April 18, 2000 (65 FR 20749). Furthermore, on October 11, 2001, Maine submitted licenses for Bath Iron Works, Pratt & Whitney, and Moosehead Manufacturing's Dover-Foxcroft and Monson plants. These facilities are subject to EPA's CTGs for shipbuilding and repair, aerospace coating operations, and wood furniture manufacturing operations, respectively.

What Are the Requirements in the Licenses Submitted by Maine?

The license for Bath Iron Works imposes VOC coating emission limits and recordkeeping requirements on this shipbuilding and repair facility. Specifically, the license includes a general use coating emission limit, as well as limits for 22 categories of specialty coatings. The license for Pratt & Whitney imposes VOC coating emission limits and recordkeeping requirements on this aerospace coating facility. Specifically, the license includes VOC content limits for primers, topcoats, chemical milling maskants and 57 categories of specialty coatings. The licenses for Moosehead Manufacturing's two facilities impose VOC coating emission limits, work practice standards, and recordkeeping requirements on these wood furniture manufacturing facilities. Specifically, the licenses include VOC content limits for sealers and topcoats.

Why Is EPA approving Maine's submittal?

EPA has evaluated the licenses submitted for the four facilities discussed above and has found that these licenses are consistent with the applicable CTG documents. The specific requirements imposed on each facility and EPA's evaluation of these requirements are detailed in a memorandum dated December 17, 2001, entitled “Technical Support Document—Maine—New CTGs” (TSD). Copies of the TSD are available, upon request, from the EPA Regional Office listed in the ADDRESSES section of this document.

What Is the process for EPA's approval of this SIP revision?

The EPA is publishing this rule without prior proposal because the Agency views this as a noncontroversial amendment and anticipates no adverse comments. However, in the proposed rules section of this Federal Register publication, EPA is publishing a separate document that will serve as the proposal to approve the SIP revision should adverse comments be filed. This action will be effective July 19, 2002 without further notice unless the EPA receives adverse comments by June 19, 2002.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on July 19, 2002 and no further action will be taken on the proposed rule. Please note that if EPA receives adverse comment on an amendment, paragraph, or section of this rule and if that provision may be severed from the remainder of the rule, EPA may adopt as final those provisions of the rule that are not the subject of an adverse comment.

Final Action

EPA is approving the licenses for the following facilities and incorporating them into the Maine SIP: Bath Iron Works; Pratt & Whitney; and Moosehead Manufacturing's Dover-Foxcroft and Monson plants. With this approval, and the previous approval of Maine's negative declaration for the SOCMI Distillation and Reactors Processes CTG categories and the license for Portsmouth Naval Shipyard (65 FR 20749), Maine has met the sections 182(b)(2) and 184(b) CAA requirements to address all new CTGs.

Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.)

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 19, 2002. Interested parties should comment in response to the proposed rule rather than petition for judicial review, unless the objection arises after the comment period allowed for in the proposal. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements.

Dated: April 3, 2002.
Robert W. Varney,
Regional Administrator, EPA New England.

Part 52 of chapter I, title 40 of the Code of Federal Regulations is amended as follows:

PART 52—[AMENDED]

1. The authority citation for part 52 continues to read as follows:

Authority: 42 U.S.C. 7401 et seq.

Subpart U—Maine

2. Section 52.1020 is amended by adding paragraph (c)(51) to read as follows:

§ 52.1020 Identification of plan.

* * * * *

(c) * * *

(51) Revisions to the State Implementation Plan submitted by the Maine Department of Environmental Protection on October 11, 2001.

(i) Incorporation by reference.

(A) License Amendment #10 issued by the Maine Department of Environmental Protection to Bath Iron Works Corporation on April 11, 2001.

(B) License Amendment #6 issued by the Maine Department of Environmental Protection to Pratt & Whitney on April 26, 2001.

(C) License Amendment #7 issued by the Maine Department of Environmental Protection to Pratt & Whitney on July 2, 2001.

(D) License Amendment #2 issued by the Maine Department of Environmental Protection to Moosehead Manufacturing Co.'s Dover-Foxcroft plant on May 10, 2001.

(E) License Amendment #2 issued by the Maine Department of Environmental Protection to Moosehead Manufacturing Co.'sMonson plant on May 10, 2001.

(ii) Additional materials

(A) Nonregulatory portions of the submittal.

3. In § 52.1031, Table 52.1031 is amended by adding new entries to existing state citations for Chapter 134 to read as follows:

§ 52.1031 EPA-approved Maine Regulations

* * * * *

Table 52.1031.—EPA-Approved Rules and Regulations
State | Title/subject | Adopted date by State | Approved date by EPA | Federal Register citation | 52.1020 |
* * * * * * *
134 | Reasonably available control technology for facilities that emit volatile organic compounds | 4/11/01 | 5/20/02 | [Insert FR citation from published date] | (c)(51) | VOC RACT determination for Bath Iron Works.
134 | Reasonably available control technology for facilities that emit volatile organic compounds | 4/26/01 7/2/01 | 5/20/02 | [Insert FR citation from published date] | (c)(51) | VOC RACT determination for Pratt & Whitney.
134 | Reasonably available control technology for facilities that emit volatile organic compounds | 5/10/01 | 5/20/02 | [Insert FR citation from published date] | (c)(51) | VOC RACT determination for for Moosehead Manufacturing's Dover-Foxcroft plant.
| Reasonably available control technology for facilities that emit volatile organic compounds | 5/10/01 | 5/20/02 | [Insert FR citation from published date] | (c)(51) | VOC RACT determination for for Moosehead Manufacturing's Monson plant.
* * * * * * *

[FR Doc. 02-12469 Filed 5-17-02; 8:45 am]

BILLING CODE 6560-50-P